DEPARTMENT OF THE INTERIOR

Bureau of Land Management

[NMNM 103820]

Notice of Proposed Withdrawal and Opportunity for Public Meeting; New Mexico

AGENCY: Bureau of Land Management, Interior.

ACTION: Notice.

SUMMARY: The United States Department of Agriculture, Forest Service, has filed an application to withdraw approximately 7,538.97 acres of National Forest System land in Santa Fe and Rio Arriba Counties, New Mexico, in aid of legislation for the proposed Global Settlement with the Pueblo of San Ildefonso. This notice closes the National Forest System land for up to 2 years from location under the United States mining laws. The land will remain open to mineral leasing.

DATES: Comments must be received by May 16, 2002.

ADDRESSES: Comments should be sent to the U.S. Department of Agriculture, Forest Service, Santa Fe National Forest, 1474 Rodeo Road, P.O. Box 1689 Santa Fe, New Mexico 87504-1689.

FOR FURTHER INFORMATION CONTACT: Michael Frazier, Santa Fe National Forest, 505-438-7824.

SUPPLEMENTARY INFORMATION: On August 17, 2001, the United States Department of Agriculture, Forest Service, filed an application to withdraw the following described National Forest System land from location under the United States mining laws, subject to valid existing rights:

New Mexico Principal Meridian

T. 19 N., R. 7 E.,

Sec. 4, lots 1 to 4, inclusive, S½N½, and S½;

Sec. 5, lots 1 to 4, inclusive, S½N½, and S½;

Sec. 6, lots 1 to 6, inclusive, S½NE¼, and SE¼;

Sec. 7, lots 1, 2, and NE¼;

Sec. 8, N½; sec. 9, N½.

T. 20 N., R. 7 E.,

Sec. 19, lots 6 to 11, inclusive, E½SW¼, and SE¼;

Sec. 20, lots 2 to 5, inclusive, and S½;

Sec. 21, lots 1, 2, 4 inclusive, lots 5 to 7, inclusive, SE¼NE¼, NE¼SE¼, and S½S½;

Sec. 28, all;

Sec. 29, all;

Sec. 30, lots 5 to 8, inclusive, E½W½, and E½;

Sec. 31, lots 5 to 8, inclusive, E½W½, and E½;

Sec. 32, all;

Sec. 33, all.

The area described contains approximately 7,538.97 acres in Rio Arriba and Santa Fe Counties.

The purpose of the proposed withdrawal is to protect the lands while a Global settlement of the San Ildenfonso Pueblo aboriginal title claim case, Indian claim commission, docket #354, is being considered.

For a period of 90 days from the date of publication of this notice, all persons who wish to submit comments, suggestions, or objections in connection with the proposed withdrawal may present their views in writing to the Santa Fe National Forest Supervisor at the above address.

Notice is hereby given that an opportunity for a public meeting is afforded in connection with the proposed withdrawal. All interested persons who desire a public meeting for the purpose of being heard on the proposed withdrawal must submit a written request to the Santa Fe National Forest Supervisor within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the land will be segregated as specified above unless the application is denied or canceled or the legislation enacted or a withdrawal is approved prior to that date.

Dated: December 13, 2002.
Sam DesGeorges,
Assistant Taos Field Office Manager.

[FR Doc. 02-3691 Filed 2-14-02; 8:45 am]

BILLING CODE 3410-11-P